DEPARTMENT OF TRANSPORTATION

Federal Highway Administration

Notice of Final Federal Agency Actions on Proposed Two New Ohio River Bridge Crossings in Kentucky and Indiana

AGENCY: Federal Highway Administration (FHWA), DOT.

ACTION: Notice of Limitation on Claims for Judicial Review of Actions by FHWA.

SUMMARY: This notice announces actions taken by the FWHA that are final within the meaning of 23 U.S.C. 139(l)(1). The actions relate to a proposed highway project, the Louisville-Southern Indiana Ohio River Bridges Project, which would provide a new Ohio River Bridge carrying Interstate 65 (I-65) between Louisville, Kentucky and Jeffersonville, Indiana immediately upstream and adjacent to the existing I-65 bridge, and a second new Ohio River Bridge located approximately eight miles upstream of the existing I-65 crossing, providing a connection between KY 841 (Gene Snyder Freeway) in eastern Jefferson County, Kentucky and SR 265 in eastern Clark County, Indiana. Both Bridges are located in Jefferson County, Kentucky and Clark County, Indiana.

DATES: By this notice, the FHWA is advising the public of final agency actions subject to 23 U.S.C. 139(l)(1). A claim seeking judicial review of the Federal agency actions on the highway project will be barred unless the claim is filed on or before December 26, 2012. If the Federal law that authorizes judicial review of a claim provides a time period of less than 180 days for filing such claim, then that shorter time period still applies.

FOR FURTHER INFORMATION CONTACT: For FHWA: Mr. Duane Thomas, Project Manager, Federal Highway Administration—Kentucky Division, John C. Watts Federal Building, 330 W. Broadway, Frankfort, KY 40601; telephone—502-223-6720; email—Duane.Thomas@dot.gov. For Kentucky: Mr. Gary Valentine, Project Manager, Kentucky Transportation Cabinet, 8310 Westport Road, Louisville, KY 40242; telephone—502-210-5453; email—Gary.Valentine@ky.gov. For Indiana: Mr. Ron Heustis, Project Manager, Indiana Department of Transportation, 100 N. Senate Avenue, IGCN925, Indianapolis, Indiana 46204.

SUPPLEMENTARY INFORMATION: Notice is hereby given that the FHWA has taken final agency actions subject to 23 U.S.C. 139(l)(1) by issuing approvals for the following highway project in the Commonwealth of Kentucky and the State of Indiana: The Louisville-Southern Indiana Ohio River Bridges Project. The proposed action will improve cross-river mobility between Jefferson County, Kentucky and Clark County, Indiana, by constructing a new Ohio River Bridge carrying I-65 between Louisville, Kentucky and Jeffersonville, Indiana immediately upstream and adjacent to the existing I-65 bridge (the “Downtown Crossing”), and a second new Ohio River Bridge located approximately eight miles upstream of the existing I-65 crossing, providing a connection between KY 841 (Gene Snyder Freeway) in eastern Jefferson County, Kentucky and SR 265 in eastern Clark County, Indiana (the “East End Crossing”), and reconstructing the highway approaches to both the Downtown Crossing and the East End Crossing in Kentucky and Indiana. The Downtown Crossing will provide for a new Ohio River Bridge to carry northbound I-65 traffic and the reconstruction of the existing I-65 Kennedy Bridge to carry southbound traffic. The Downtown Crossing also will include the reconstruction of the Kennedy Interchange (where I-65, I-64, and I-71 converge in Kentucky just south of the Kennedy Bridge) in its existing location, and the reconstruction of the I-65 approach in Indiana. In total, reconstruction of approximately 2.8 miles of I-65 is involved. The East End Crossing will provide for a new Ohio River Bridge and approach roadways connecting the Gene Snyder Freeway (KY 841) in Kentucky to the Lee Hamilton Highway (IN-265) in Indiana. The East End Crossing will extend from the I-71/Gene Snyder Freeway interchange in Kentucky to the Lee Hamilton Highway north of S.R. 62 in Indiana for a total length of approximately 8.1 miles. The East End Crossing also will include new interchanges at S.R. 62/Port Road and Utica-Old Salem Road.

The actions by the Federal agencies, and the laws under which such actions were taken, are described in the Supplemental Final Environmental Impact Statement (SFEIS) for the project, approved on April 20, 2012, in the FHWA Revised Record of Decision (Revised ROD) issued on June 20, 2012, and in other documents in the FHWA administrative record. A Final Environmental Impact Statement (FEIS) and Section 4(f) Evaluation were previously issued for the Project on April 8, 2003 and were followed by the issuance of a Record of Decision on September 6, 2003. The SFEIS, Revised ROD, and other project records are available by contacting FHWA, the Kentucky Transportation Cabinet, or the Indiana Department of Transportation at the addresses provided above. The SFEIS and Revised ROD can be viewed and downloaded from the project Web site at www.kyinbridges.com, or viewed at public libraries in the project area.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Farmland Protection Policy ACT (FPPA) [7 U.S.C. 4201-4209].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c).

6. Social and Economic: Civil Rights Act of 1964 [42 U.S.C. 2000(d)-2000(d)(1)]; Uniform Relocation Assistance and Real Property Act of 1970 (42 U.S.C. 4601 et seq., Pub. L. 91-646) as amended by the Uniform Relocation Act of 1987 (Pub. L. 100-17); Executive Order 12898, Federal Actions to Address Environmental Justice in Minority Populations and Low Income Populations, February 11, 1994..

7. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Emergency Wetlands Resources Act, [16 U.S.C. 3921, 3931]; Wetlands Mitigation [23 U.S.C. 103(b)(6)(M) and 133(b)(11)]; Flood Disaster Protection Act, 42 U.S.C. 4001-4128.

8. Executive Orders: E.O. 11990 Protection of Wetlands; E.O. 11988 Floodplain Management; E.O. 11593 Protection and Enhancement of Cultural Resources; E.O. 13287 Preserve America; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1).

Issued on: June 20, 2012.
Jose Sepulveda,
FHWA Division Administrator, Frankfort, KY 40601.

[FR Doc. 2012-15931 Filed 6-28-12; 8:45 am]

BILLING CODE P